COMMITTEE FOR THE IMPLEMENTATION OF TEXTILE AGREEMENTS

Establishment of an Export Visa Arrangement for Certain Cotton, Wool and Man-Made Fiber Textiles and Textile Products Produced or Manufactured in Vietnam

July 24, 2003.

AGENCY: Committee for the Implementation of Textile Agreements (CITA)

ACTION: Issuing a directive to the Commissioner, Bureau of Customs and Border Protection establishing export visa requirements.

EFFECTIVE DATE: August 11, 2003.

FOR FURTHER INFORMATION CONTACT: Shikha Bhatnagar, International Trade Specialist, Office of Textiles and Apparel, U.S. Department of Commerce, (202) 482-3400.

SUPPLEMENTARY INFORMATION:

Authority: Section 204 of the Agricultural Act of 1956, as amended (7 U.S.C. 1854); Executive Order 11651 of March 3, 1972, as amended.

Pursuant to Annex C of the Bilateral Textile Agreement, dated July 17, 2003, the Governments of the United States and the Socialist Republic of Vietnam agreed to establish a new Export Visa Arrangement for certain cotton, wool and man-made fiber textiles and textile products subject to specific quota limits, as detailed in the notice and letter to the Commissioner, Bureau of Customs and Border Protection, published in the Federal Register on May 16, 2003 (see 68 FR 26575), produced or manufactured in Vietnam and exported from Vietnam on and after August 11, 2003.

A description of the textile and apparel categories in terms of HTS numbers is available in the CORRELATION: Textile and Apparel Categories with the Harmonized Tariff Schedule of the United States (see Federal Register notice 68 FR 1599, published on January 13, 2003).

Interested persons are advised to take all necessary steps to ensure that textile products that are entered into the United States for consumption, or withdrawn from warehouse for consumption, on and after August 11, 2003 will meet the visa requirements set forth in the letter published below to the Commissioner, Bureau of Customs and Border Protection.

James C. Leonard III,
Chairman, Committee for the Implementation of Textile Agreements.

Committee for the Implementation of Textile Agreements

July 24, 2003.

Commissioner,

Bureau of Customs and Border Protection, Washington, DC 20229.

Dear Commissioner: Pursuant to section 204 of the Agricultural Act of 1956, as amended (7 U.S.C. 1854); Executive Order 11651 of March 3, 1972, as amended; and the Export Visa Arrangement in Annex C of the Bilateral Textile Agreement, dated July 17, 2003, between the Governments of the United States and the Socialist Republic of Vietnam, you are directed to prohibit, effective on August 11, 2003, entry into the Customs territory of the United States (i.e., the 50 states, the District of Columbia and the Commonwealth of Puerto Rico) for consumption and withdrawal from warehouse for consumption of cotton, wool and man-made fiber textiles and textile products subject to specific quota limits, as detailed in the directive dated May 12, 2003, produced or manufactured in Vietnam and exported from Vietnam on and after August 11, 2003, for which the Government of Vietnam has not issued an appropriate export visa fully described below. Should additional categories, merged categories or part categories become subject to import quota, the additional, merged or part category(s) automatically shall be included in the coverage of this visa arrangement. Merchandise in the additional, merged or part category(s) exported on or after the date the category(s) becomes subject to import quotas shall require a visa.

A visa must accompany each commercial shipment of the aforementioned textile products, in the form of a circular stamped marking in blue ink appearing on the front of the original commercial invoice or successor document. The original visa shall not be stamped on duplicate copies of the invoice. The original invoice with the original visa stamp will be required to enter the shipment into the United States. Duplicates of the invoice and/or visa may not be used for this purpose.

Each visa stamp shall include the following information:

1. The visa number. The visa number shall be in the standard nine digit letter format, beginning with one numeric digit for the last digit of the year of export, followed by the two character alpha code specified by the International Organization for Standardization (ISO) for Vietnam (the code for the Vietnam is ``VN''), and a six digit numerical serial number identifying the shipment; e.g., 3VN123456.

2. The date of issuance. The date of issuance shall be the day, month and year on which the visa was issued.

3. The original signature and the printed name of the issuing official authorized by the Government of Vietnam.

4. The correct category(s), merged category(s), part category(s), quantity(s) and unit(s) of quantity of the shipment in the unit(s) of quantity provided for in the U.S. Department of Commerce Correlation and in the Harmonized Tariff Schedule of the United States (HTSUS), annotated, or successor documents shall be reported in the spaces provided within the visa stamp (e.g., ``Cat. 340-510 DOZ'').

Quantities must be stated in whole numbers. Decimals or fractions will not be accepted. Visaed quantities are rounded to the closest whole number if the quantity exported exceeds one whole unit, but is less than the next whole unit. Half units are rounded up. If the quantity visaed is less than one unit, the shipment is rounded upwards to one unit. Merged category quota merchandise may be accompanied by either the appropriate merged category visa or the correct category visa corresponding to the actual shipment. For example, quota Category 340/640 may be visaed as ``Category 340/640'' or if the shipment consists solely of Category 340 merchandise, the shipment may be visaed as ``Category 340'' but not as ``Category 640.''

The Bureau of Customs and Border Protection shall not permit entry if the shipment does not have a visa, or if the visa number, date of issuance, signature, category, quantity or units of quantity are missing, incorrect, illegible, or have been crossed out or altered in any way. If the quantity indicated on the visa is less than that of the shipment, entry shall not be permitted. If the quantity indicated on the visa is more than that of the shipment, entry shall be permitted and only the amount entered shall be charged to any applicable quota.

The complete name and address of the company(s) actually involved in the manufacturing process of the textile product covered by the visa shall be provided on the textile visa document.

If the visa is not acceptable then a new correct visa or a visa waiver must be presented to Customs before any portion of the shipment will be released. A visa waiver may be issued by the U.S. Department of Commerce at the request of the Government of the Socialist Republic of Vietnam through its Embassy in Washington, DC. The waiver, if used, only waives the requirement to present a visa with the shipment. It does not waive the quota requirements. Visa waivers will only be issued for classification purposes or for one-time special purpose shipments that are not part of an ongoing commercial enterprise.

If the visaed invoice is deficient, Customs will not return the original document after entry, but will provide a certified copy of that visaed invoice for use in obtaining a new correct original visaed invoice, or a visa waiver.

If a shipment from Vietnam has been allowed entry into the commerce of the United States with either an incorrect visa or no visa, and redelivery is requested but cannot be made, the shipment shall be charged to any applicable category limit whether or not a replacement visa or waiver is provided.

Other Provisions

The date of export is the actual date the merchandise leaves Vietnam. For merchandise exported by vessel or carrier, this is the date on which the merchandise leaves the last port in Vietnam.

Merchandise imported for the personal use of the importer and not for resale, regardless of value, and properly marked commercial sample shipments valued at U.S. $800 or less do not require an export visa for entry and shall not be charged to existing quota levels.

The Committee for the Implementation of Textile Agreements has determined that these actions fall within the foreign affairs exception to the rulemaking provisions of 5 U.S.C. 553(a)(1).

This letter will be published in the Federal Register.

Sincerely,

James C. Leonard III,

Chairman, Committee for the Implementation of Textile Agreements.

The Socialist Republic of Vietnam, Ministry of Trade

BILLING CODE 3510-DR-S

[FR Doc. 03-19422 Filed 7-29-03; 8:45 am]

BILLING CODE 3510-DR-C